FEDERAL DEPOSIT INSURANCE CORPORATION

Privacy Act of 1974; System of Records

AGENCY: Federal Deposit Insurance Corporation (FDIC).

ACTION: Notice of a new system of records.

SUMMARY: In accordance with the Privacy Act of 1974, as amended, the FDIC proposes to establish a new FDIC system of records titled, “Mailing, Event, and other Contact Lists.” This system of records notice describes FDIC's collection, maintenance, and use of contact information to support FDIC's mission.

DATES: This action will become effective on November 4, 2022. The routine uses in this action will become effective on December 5, 2022 unless the FDIC makes changes based on comments received. Written comments should be submitted on or before December 5, 2022.

ADDRESSES: Interested parties are invited to submit written comments identified by Privacy Act Systems of Records (FDIC-040) by any of the following methods:

• Agency Website: https://www.fdic.gov/resources/regulations/federal-register-publications/. Follow the instructions for submitting comments on the FDIC website.

• Email: Comments@fdic.gov. Include “Comments-SORN (FDIC-040)” in the subject line of communication.

• Mail: James P. Sheesley, Assistant Executive Secretary, Attention: Comments SORN (FDIC-040), Legal Division, Office of the Executive Secretary, Federal Deposit Insurance Corporation, 550 17th Street NW, Washington, DC 20429.

• Hand Delivery: Comments may be hand-delivered to the guard station at the rear of the 17th Street NW building (located on F Street NW), on business days between 7:00 a.m. and 5:00 p.m.

• Public Inspection: Comments received, including any personal information provided, may be posted without change to https://www.fdic.gov/resources/regulations/federal-register-publications/. Commenters should submit only information that the commenter wishes to make available publicly. The FDIC may review, redact, or refrain from posting all or any portion of any comment that it may deem to be inappropriate for publication, such as irrelevant or obscene material. The FDIC may post only a single representative example of identical or substantially identical comments, and in such cases will generally identify the number of identical or substantially identical comments represented by the posted example. All comments that have been redacted, as well as those that have not been posted, that contain comments on the merits of this document will be retained in the public comment file and will be considered as required under all applicable laws. All comments may be accessible under the Freedom of Information Act.

FOR FURTHER INFORMATION CONTACT: Shannon Dahn; Chief, Privacy Program; 703-516-5500; privacy@fdic.gov.

SUPPLEMENTARY INFORMATION: The FDIC's mission encompasses a wide variety of activities, including: insuring deposits, examining and supervising financial institutions for safety and soundness, making large and complex financial institutions resolvable, managing receiverships, and protecting consumers. In order to meet its mission, FDIC interacts with a wide variety of stakeholders in various settings. As part of this interaction, FDIC collects contact information from individuals who correspond with the FDIC; request information from the FDIC; register for events, training, or other programs; and for other purposes for which mailing or contact lists may be created.

SYSTEM NAME AND NUMBER:

Mailing, Event, and other Contact Lists, FDIC-040.

SECURITY CLASSIFICATION:

Unclassified.

SYSTEM LOCATION:

Records are maintained at FDIC facilities in Arlington, Virginia and regional offices. Duplicate systems may exist, in whole or in part, at secure sites and on secure servers maintained by third-party service providers for the FDIC.

SYSTEM MANAGER(S):

Director, Division of Administration, 3501 Fairfax Drive, Arlington, VA 22226, MailingEventsContactLists@FDIC.gov.

AUTHORITY FOR MAINTENANCE OF THE SYSTEM:

Federal Deposit Insurance Act (e.g., 12 U.S.C. 1811, 1819).

PURPOSE(S) OF THE SYSTEM:

FDIC uses contact information to correspond with individuals who request information from the FDIC; maintain lists of individuals who register for events, training, or other programs; maintain lists and credentials of individuals whom FDIC may consult professionally in furtherance of its mission; and for other purposes for which mailing or contact lists may be created.

CATEGORIES OF INDIVIDUALS COVERED BY THE SYSTEM:

Individuals covered by this system of records include individuals who request to receive information; subscribe to newsletters; seek materials from FDIC; register or participate in FDIC-sponsored or FDIC-funded events or contests; respond to surveys or feedback forms from FDIC or a third party contracted by FDIC; have business with the FDIC and provide their contact information; or otherwise provide contact information to facilitate future communication or collaboration with the FDIC.

CATEGORIES OF RECORDS IN THE SYSTEM:

This system contains information including:

• Name;

• Telephone number;

• Mailing address;

• Email address;

• Organizational or institutional affiliation;

• Industry type;

• General descriptions of particular topics or subjects of interest as related to individuals or organizations who communicate with FDIC;

• Special accommodation information for individuals attending events sponsored by FDIC (e.g., dietary restrictions, seating, access accommodations);

• Computer-generated identifier or case number when created in order to retrieve information; and

• Other identifiers specific to the request, subscription, event, or communication.

RECORD SOURCE CATEGORIES:

Information contained in these systems is obtained from individuals and organizations interacting with FDIC; public source data; other government agencies; and information in other FDIC records systems.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside the FDIC as a routine use as follows:

(1) To appropriate Federal, State, local and foreign authorities responsible for investigating or prosecuting a violation of, or for enforcing or implementing a statute, rule, regulation, or order issued, when the information indicates a violation or potential violation of law, whether civil, criminal, or regulatory in nature, and whether arising by general statute or particular program statute, or by regulation, rule, or order issued pursuant thereto;

(2) To a court, magistrate, or other administrative body in the course of presenting evidence, including disclosures to counsel or witnesses in the course of civil discovery, litigation, or settlement negotiations or in connection with criminal proceedings, when the FDIC is a party to the proceeding or has a significant interest in the proceeding, to the extent that the information is determined to be relevant and necessary;

(3) To a congressional office in response to an inquiry made by the congressional office at the request of the individual who is the subject of the record;

(4) To appropriate agencies, entities, and persons when (a) the FDIC suspects or has confirmed that there has been a breach of the system of records; (b) the FDIC has determined that as a result of the suspected or confirmed breach there is a risk of harm to individuals, the FDIC (including its information systems, programs, and operations), the Federal Government, or national security; the FDIC and (c) the disclosure made to such agencies, entities, and persons is reasonably necessary to assist in connection with the FDIC's efforts to respond to the suspected or confirmed breach or to prevent, minimize, or remedy such harm;

(5) To another Federal agency or Federal entity, when the FDIC determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach;

(6) To contractors, grantees, volunteers, and others performing or working on a contract, service, grant, cooperative agreement, or project for the FDIC, the Office of Inspector General, or the Federal Government for use in carrying out their obligations under such contract, grant, agreement or project.

POLICIES AND PRACTICES FOR STORAGE OF RECORDS:

Records are stored in electronic media or on paper format in secure facilities.

POLICIES AND PRACTICES FOR RETRIEVAL OF RECORDS:

Electronic media and paper format are indexed and retrieved by name, email address, computer assigned identification number, business affiliation, event name.

POLICIES AND PRACTICES FOR RETENTION AND DISPOSAL OF RECORDS:

Records are maintained until no longer needed in accordance with approved records retention schedules.

ADMINISTRATIVE, TECHNICAL, AND PHYSICAL SAFEGUARDS:

Records are protected from unauthorized access and improper use through administrative, technical, and physical security measures. Administrative safeguards include written guidelines on handling personal information including agency-wide procedures for safeguarding personally identifiable information. In addition, all FDIC staff are required to take annual privacy and security training. Technical security measures within FDIC include restrictions on computer access to authorized individuals who have a legitimate need to know the information; required use of strong passwords that are frequently changed; multi-factor authentication for remote access and access to many FDIC network components; use of encryption for certain data types and transfers; firewalls and intrusion detection applications; and regular review of security procedures and best practices to enhance security. Physical safeguards include restrictions on building access to authorized individuals, security guard service, and maintenance of records in lockable offices and filing cabinets.

RECORD ACCESS PROCEDURES:

Individuals wishing to request access to records about them in this system of records must submit their request in writing to the FDIC FOIA & Privacy Act Group, 550 17th Street NW, Washington, DC 20429, or email efoia@fdic.gov. Requests must include full name, address, and verification of identity in accordance with FDIC regulations at 12 CFR part 310.

CONTESTING RECORD PROCEDURES:

Individuals wishing to contest or request an amendment to their records in this system of records must submit their request in writing to the FDIC FOIA & Privacy Act Group, 550 17th Street NW, Washington, DC 20429, or email efoia@fdic.gov. Requests must specify the information being contested, the reasons for contesting it, and the proposed amendment to such information in accordance with FDIC regulations at 12 CFR part 310.

NOTIFICATION PROCEDURES:

Individuals wishing to know whether this system contains information about them must submit their request in writing to the FDIC FOIA & Privacy Act Group, 550 17th Street NW, Washington, DC 20429, or email efoia@fdic.gov. Requests must include full name, address, and verification of identity in accordance with FDIC regulations at 12 CFR part 310.

EXEMPTIONS PROMULGATED FOR THE SYSTEM:

None.

HISTORY:

None.

Federal Deposit Insurance Corporation.
Dated at Washington, DC, on November 1, 2022.
James P. Sheesley,
Assistant Executive Secretary.

[FR Doc. 2022-24096 Filed 11-3-22; 8:45 am]

BILLING CODE 6714-01-P